DEPARTMENT OF ENERGY

Federal Energy Regulatory Commission

Combined Notice of Filings #1

Take notice that the Commission received the following electric corporate filings:

Docket Numbers: EC11-47-000.

Applicants: Liberty Energy Utilities (New Hampshire), Granite State Electric Co.

Description: Second Supplemental Information and Request for Expedited Procedures of Liberty Energy Utilities (New Hampshire) Corp.

Filed Date: 05/17/2011.

Accession Number: 20110517-5154.

Comment Date: 5 p.m. Eastern Time on Tuesday, May 31, 2011.

Docket Numbers: EC11-78-000.

Applicants: Constellation Energy Resources, LLC, MXenergy Electric Inc.

Description: Application for the Authorization for Disposition of Jurisdictional Facilities and Request for Expedited Action.

Filed Date: 05/17/2011.

Accession Number: 20110517-5151.

Comment Date: 5 p.m. Eastern Time on Tuesday, June 07, 2011.

Docket Numbers: EC11-79-000.

Applicants: Emera Incorporated, Algonquin Power & Utilities Corp.

Description: Section 203 Application of Emera Inc. and Algonquin Power & Utilities Corp.

Filed Date: 05/17/2011.

Accession Number: 20110517-5152.

Comment Date: 5 p.m. Eastern Time on Tuesday, June 07, 2011.

Take notice that the Commission received the following electric rate filings:

Docket Numbers: ER10-2476-001.

Applicants: BG Energy Merchants, LLC.

Description: BG Energy Merchants, LLC submits tariff filing per 35: Request for Category 1 Seller Determination to be effective 7/18/2011.

Filed Date: 05/17/2011.

Accession Number: 20110517-5056.

Comment Date: 5 p.m. Eastern Time on Tuesday, June 07, 2011.

Docket Numbers: ER11-3336-001.

Applicants: Command Power Corp.

Description: Command Power Corp. submits tariff filing per 35.17(b): MBR Application Amendment to be effective 6/11/2011.

Filed Date: 05/17/2011.

Accession Number: 20110517-5028.

Comment Date: 5 p.m. Eastern Time on Tuesday, June 07, 2011.

Docket Numbers: ER11-3579-000.

Applicants: PJM Interconnection, L.L.C.

Description: PJM Interconnection, L.L.C. submits tariff filing per 35.13(a)(2)(iii: Queue No. W2-016; Original Service Agreement No. 2924 to be effective 4/20/2011.

Filed Date: 05/17/2011.

Accession Number: 20110517-5038.

Comment Date: 5 p.m. Eastern Time on Tuesday, June 07, 2011.

Docket Numbers: ER11-3580-000.

Applicants: Domtar Corporation.

Description: Domtar Corporation submits tariff filing per 35.15: Domtar Corporation Notice of Cancellation of MBR Tariff to be effective 7/18/2011.

Filed Date: 05/17/2011.

Accession Number: 20110517-5050.

Comment Date: 5 p.m. Eastern Time on Tuesday, June 07, 2011.

Docket Numbers: ER11-3581-000.

Applicants: PJM Interconnection, L.L.C., Monongahela Power Company, American Electric Power Service Corporation.

Description: PJM Interconnection, L.L.C. submits tariff filing per 35.13(a)(2)(iii: Monongahela Power, et al., submits the Third Revised Service Agreement No. 1395, to be effective 5/17/2011.

Filed Date: 05/17/2011.

Accession Number: 20110517-5073.

Comment Date: 5 p.m. Eastern Time on Tuesday, June 07, 2011.

Docket Numbers: ER11-3582-000.

Applicants: People's Power & Gas, LLC.

Description: People's Power & Gas, LLC submits tariff filing per 35.12: Market-Based Rate Tariff, to be effective 5/17/2011.

Filed Date: 05/17/2011.

Accession Number: 20110517-5087.

Comment Date: 5 p.m. Eastern Time on Tuesday, June 07, 2011.

Docket Numbers: ER11-3583-000.

Applicants: Midwest Independent Transmission System Operator, Inc.

Description: Midwest Independent Transmission System Operator, Inc. submits tariff filing per 35.13(a)(2)(iii: Attachment X Clean-Up-RECB to be effective 7/28/2010.

Filed Date: 05/17/2011.

Accession Number: 20110517-5110

Comment Date: 5 p.m. Eastern Time on Tuesday, June 07, 2011.

Docket Numbers: ER11-3584-000.

Applicants: Florida Power Corp. d/b/a Progress Energy Florida, Inc.

Description: Florida Power Corp. d/b/a Progress Energy Florida, Inc.'s Filing Concerning 2010 Impact of Retail Cost of Removal on the OATT Formula Transmission Rate.

Filed Date: 05/16/2011.

Accession Number: 20110516-5152.

Comment Date: 5 p.m. Eastern Time on Monday, June 06, 2011.

Docket Numbers: ER11-3586-000.

Applicants: PJM Interconnection, L.L.C., American Electric Power Service Corporation.

Description: PJM Interconnection, L.L.C. submits tariff filing per 35: AEPSC submits Compliance Filing revising Attachment H-20B per Order in ER10-355 to be effective 4/21/2011.

Filed Date: 05/18/2011.

Accession Number: 20110518-5038.

Comment Date: 5 p.m. Eastern Time on Wednesday, June 08, 2011.

Docket Numbers: ER11-3587-000.

Applicants: PacifiCorp.

Description: PacifiCorp submits tariff filing per 35.15: Termination of Morgantown POD Construction Agreement to be effective 7/4/2011.

Filed Date: 05/18/2011.

Accession Number: 20110518-5039.

Comment Date: 5 p.m. Eastern Time on Wednesday, June 08, 2011.

Docket Numbers: ER11-3588-000.

Applicants: Conectiv Energy Supply, Inc.

Description: Conectiv Energy Supply, Inc. submits tariff filing per 35.15: Notice of MBR Cancellation to be effective 6/30/2011.

Filed Date: 05/18/2011.

Accession Number: 20110518-5045.

Comment Date: 5 p.m. Eastern Time on Wednesday, June 08, 2011.

Docket Numbers: ER11-3589-000.

Applicants: Long Island Solar Farm, LLC.

Description: Long Island Solar Farm, LLC submits tariff filing per 35.12: LISF MBR Filing to be effective 9/12/2011.

Filed Date: 05/18/2011.

Accession Number: 20110518-5048.

Comment Date: 5 p.m. Eastern Time on Wednesday, June 08, 2011.

Docket Numbers: ER11-3590-000.

Applicants: Southern California Edison Company.

Description: Southern California Edison Company submits tariff filing per 35.13(a)(2)(iii: Amend SGIA WDT Serv AG SCE-GBU SPVP #1 Project to be effective 5/19/2011.

Filed Date: 05/18/2011.

Accession Number: 20110518-5052.

Comment Date: 5 p.m. Eastern Time on Wednesday, June 08, 2011.

Docket Numbers: ER11-3591-000.

Applicants: Southern California Edison Company.

Description: Southern California Edison Company submits tariff filing per 35.13(a)(2)(iii: Amend SGIA WDT Serv AG SCE-GBU SPVP #2 Project to be effective 5/19/2011.

Filed Date: 05/18/2011.

Accession Number: 20110518-5053.

Comment Date: 5 p.m. Eastern Time on Wednesday, June 08, 2011.

Docket Numbers: ER11-3592-000.

Applicants: California Independent System Operator Corporation.

Description: California Independent System Operator Corporation submits tariff filing per 35.13(a)(2)(iii: 2011-05-18 Service Agreement 458 UDCOA between CAISO and Banning to be effective 7/28/2010.

Filed Date: 05/18/2011.

Accession Number: 20110518-5084.

Comment Date: 5 p.m. Eastern Time on Wednesday, June 08, 2011.

Take notice that the Commission received the following electric reliability filings:

Docket Numbers: RR10-12-001.

Applicants: North American Electric Reliability Corporation.

Description: Supplemental Information to the North American Electric Reliability Corporation's December 1, 2010 Compliance Filing in Response to the September 3, 2010 Order Approving Petition and Directing Compliance Filing.

Filed Date: 05/17/2011.

Accession Number: 20110517-5158.

Comment Date: 5 p.m. Eastern Time on Tuesday, May 31, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: May 18, 2011.
Nathaniel J. Davis, Sr.,
Deputy Secretary.

[FR Doc. 2011-12880 Filed 5-24-11; 8:45 am]

BILLING CODE 6717-01-P